DEPARTMENT OF HEALTH AND HUMAN SERVICES

Administration for Children and Families

Submission for OMB Review; Comment Request

Title: State Title IV-D Agency Caseworkers On-Line Survey.

OMB No.: New Collection.

Description: The Office of Child Support Enforcement (OCSE) plans to reach out to as many State child support enforcement caseworkers as possible to invite them to participate in a brief on-line survey. The responses will be used to determine if OCSE needs to modify the content and the means of communicating information and training materials used to process child support enforcement cases. All information will be treated confidentially and will not be identified by State or e-mail address of respondents. Depending on the overall response rate to the outreach efforts through the title IV-D agencies, the actual number of respondents could be much lower than the nationwide estimate of 60,000 caseworkers used for the burden estimates.

Respondents: State Title IV-D Agency Caseworkers.

Annual Burden Estimates
Instrument | Number of respondents | Number of responses per respondent | Average burden hours per response | Total burden hours
Invitation to participate in on-line survey | 60,000 | 1 | .1 | 6,000

Estimated Total Annual Burden Hours: 6,000.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: March 12, 2007.
Robert Sargis,
Reports Clearance Officer.

[FR Doc. 07-1231 Filed 3-15-07; 8:45 am]

BILLING CODE 4184-01-M